DEPARTMENT OF TRANSPORTATION

Federal Aviation Administration

14 CFR Part 97

[Docket No. 30953; Amdt. No. 3586]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 30, 2014. The compliance date for each SIAP, associated Takeoff Minimums, and ODP is specified in the amendatory provisions.

The incorporation by reference of certain publications listed in the regulations is approved by the Director of the Federal Register as of April 30, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore— (1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on March 28, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
5/1/2014 | IN | Fort Wayne | Fort Wayne Intl | 4/5491 | 03/14/14 | LOC BC RWY 14, Amdt 15.
5/29/2014 | AK | Cold Bay | Cold Bay | 4/0223 | 03/18/14 | ILS OR LOC/DME RWY 15, Amdt 18A.
5/29/2014 | CA | Redlands | Redlands Muni | 4/1556 | 03/18/14 | GPS A, Orig.
5/29/2014 | WA | Richland | Richland | 4/1709 | 03/14/14 | RNAV (GPS) Y RWY 19, Amdt 1.
5/29/2014 | WA | Richland | Richland | 4/1710 | 03/14/14 | RNAV (GPS) Z RWY 19, Orig.
5/29/2014 | WA | Richland | Richland | 4/1711 | 03/14/14 | LOC RWY 19, Amdt 8.
5/29/2014 | CA | Los Angeles | Los Angeles Intl | 4/1716 | 03/21/14 | RNAV (RNP) Z RWY 7L, Orig-B.
5/29/2014 | CA | Oxnard | Oxnard | 4/2241 | 03/18/14 | RNAV (GPS) RWY 7, Amdt 1.
5/29/2014 | CA | San Diego | Brown Field Muni | 4/2242 | 03/18/14 | RNAV (GPS) RWY 8L, Amdt 1.
5/29/2014 | OH | Cambridge | Cambridge Muni | 4/2278 | 03/18/14 | RNAV (GPS) RWY 4, Orig.
5/29/2014 | OH | Cambridge | Cambridge Muni | 4/2279 | 03/18/14 | RNAV (GPS) RWY 22, Orig.
5/29/2014 | OH | Cambridge | Cambridge Muni | 4/2281 | 03/18/14 | LOC/DME RWY 22, Amdt 1A.
5/29/2014 | CA | Upland | Cable | 4/2341 | 03/18/14 | RNAV (GPS) RWY 6, Amdt 1.
5/29/2014 | GA | Camilla | Camilla-Mitchell County | 4/2342 | 03/18/14 | RNAV (GPS) RWY 26, Amdt 1A.
5/29/2014 | AL | Dothan | Dothan Rgnl | 4/2345 | 03/18/14 | RNAV (GPS) RWY 18, Amdt 2.
5/29/2014 | PA | Dubois | Dubois Rgnl | 4/2352 | 03/18/14 | ILS OR LOC RWY 25, Amdt 9A.
5/29/2014 | ID | Driggs | Driggs-Reed Memorial | 4/2358 | 03/18/14 | RNAV (GPS) RWY 3, Amdt 1.
5/29/2014 | TX | Caldwell | Caldwell Muni | 4/2378 | 03/18/14 | RNAV (GPS) RWY 15, Orig.
5/29/2014 | AR | Bentonville | Bentonville Muni/Louise M Thaden Field | 4/2410 | 03/14/14 | RNAV (GPS) RWY 36, Amdt 1.
5/29/2014 | AR | Bentonville | Bentonville Muni/Louise M Thaden Field | 4/2411 | 03/14/14 | RNAV (GPS) RWY 18, Amdt 1.
5/29/2014 | IA | Cedar Rapids | The Eastern Iowa | 4/2506 | 03/14/14 | ILS OR LOC RWY 27, Amdt 6C.
5/29/2014 | AR | Manila | Manila Muni | 4/2507 | 03/14/14 | RNAV (GPS) RWY 18, Amdt 1.
5/29/2014 | AR | Nashville | Howard County | 4/2508 | 03/14/14 | RNAV (GPS) RWY 19, Orig.
5/29/2014 | AR | Nashville | Howard County | 4/2509 | 03/14/14 | RNAV (GPS) RWY 1, Orig.
5/29/2014 | AR | Fayetteville | Drake Field | 4/2511 | 03/18/14 | RNAV (GPS) RWY 16, Amdt 1.
5/29/2014 | AK | Yakutat | Yakutat | 4/2529 | 03/21/14 | Takeoff Minimums and Obstacle DP, Amdt 5.
5/29/2014 | AR | Huntsville | Huntsville Muni | 4/2772 | 03/18/14 | RNAV (GPS) RWY 12, Orig.
5/29/2014 | AR | Huntsville | Huntsville Muni | 4/2775 | 03/18/14 | RNAV (GPS) RWY 30, Orig.
5/29/2014 | AR | Jonesboro | Jonesboro Muni | 4/2778 | 03/18/14 | RNAV (GPS) RWY 5, Amdt 1.
5/29/2014 | AR | Jonesboro | Jonesboro Muni | 4/2779 | 03/18/14 | RNAV (GPS) RWY 31, Amdt 1.
5/29/2014 | AR | Jonesboro | Jonesboro Muni | 4/2780 | 03/18/14 | RNAV (GPS) RWY 23, Amdt 1.
5/29/2014 | AR | Jonesboro | Jonesboro Muni | 4/2781 | 03/18/14 | ILS OR LOC RWY 23, Amdt 2.
5/29/2014 | IA | Burlington | Southeast Iowa Rgnl | 4/2795 | 03/14/14 | RNAV (GPS) RWY 12, Amdt 1.
5/29/2014 | IA | Perry | Perry Muni | 4/2798 | 03/14/14 | RNAV (GPS) RWY 32, Amdt 1.
5/29/2014 | IA | Perry | Perry Muni | 4/2799 | 03/14/14 | RNAV (GPS) RWY 14, Orig.
5/29/2014 | AR | Newport | Newport Muni | 4/2800 | 03/14/14 | VOR/DME RWY 18, Amdt 4.
5/29/2014 | AR | Huntsville | Huntsville Muni | 4/2804 | 03/18/14 | VOR/DME RWY 12, Amdt 2.
5/29/2014 | AR | Pine Bluff | Grider Field | 4/2909 | 03/14/14 | RNAV (GPS) RWY 36, Amdt 1.
5/29/2014 | AR | Pine Bluff | Grider Field | 4/2910 | 03/14/14 | RNAV (GPS) RWY 18, Amdt 1.
5/29/2014 | IA | Monticello | Monticello Rgnl | 4/2911 | 03/14/14 | RNAV (GPS) RWY 15, Amdt 1B.
5/29/2014 | AR | Little Rock | Bill And Hillary Clinton National/Adams Field | 4/2912 | 03/18/14 | ILS OR LOC RWY 4R, Amdt 2B.
5/29/2014 | AR | Little Rock | Bill And Hillary Clinton National/Adams Field | 4/2913 | 03/18/14 | RNAV (GPS) RWY 4R, Amdt 1B.
5/29/2014 | AR | Dumas | Billy Free Muni | 4/2914 | 03/14/14 | RNAV (GPS) RWY 36, Amdt 1.
5/29/2014 | AR | Dumas | Billy Free Muni | 4/2915 | 03/14/14 | VOR/DME RWY 36, Amdt 3A.
5/29/2014 | AR | Camden | Harrell Field | 4/2916 | 03/18/14 | VOR/DME RWY 1, Amdt 10.
5/29/2014 | AR | Camden | Harrell Field | 4/2917 | 03/18/14 | RNAV (GPS) RWY 1, Amdt 1.
5/29/2014 | IA | Osceola | Osceola Muni | 4/2918 | 03/14/14 | RNAV (GPS) RWY 36, Orig.
5/29/2014 | IA | Osceola | Osceola Muni | 4/2919 | 03/14/14 | RNAV (GPS) RWY 18, Orig.
5/29/2014 | IA | Ottumwa | Ottumwa Rgnl | 4/2920 | 03/14/14 | ILS OR LOC RWY 31, Amdt 5C.
5/29/2014 | CO | Montrose | Montrose Rgnl | 4/3006 | 03/18/14 | ILS OR LOC/DME RWY 17, Amdt 2A.
5/29/2014 | NC | Jacksonville | Albert J Ellis | 4/3031 | 03/18/14 | NDB RWY 5, Amdt 8A.
5/29/2014 | NC | Jacksonville | Albert J Ellis | 4/3032 | 03/18/14 | ILS OR LOC RWY 5, Amdt 9.
5/29/2014 | NC | Jacksonville | Albert J Ellis | 4/3033 | 03/18/14 | RNAV (GPS) RWY 5, Amdt 1A.
5/29/2014 | MN | Albert Lea | Albert Lea Muni | 4/3062 | 03/18/14 | RNAV (GPS) RWY 17, Amdt 2.
5/29/2014 | MN | Albert Lea | Albert Lea Muni | 4/3063 | 03/18/14 | RNAV (GPS) RWY 35, Amdt 1.
5/29/2014 | MN | Albert Lea | Albert Lea Muni | 4/3064 | 03/18/14 | VOR/DME RWY 35, Amdt 1.
5/29/2014 | MN | Albert Lea | Albert Lea Muni | 4/3065 | 03/18/14 | VOR RWY 17, Amdt 1.
5/29/2014 | CA | Apple Valley | Apple Valley | 4/3470 | 03/18/14 | RNAV (GPS) Y RWY 18, Amdt 1A.
5/29/2014 | CA | Apple Valley | Apple Valley | 4/3471 | 03/18/14 | RNAV (GPS) Z RWY 18, Orig-A.
5/29/2014 | ID | Rexburg | Rexburg-Madison County | 4/3480 | 03/21/14 | VOR RWY 35, Amdt 4.
5/29/2014 | ID | Rexburg | Rexburg-Madison County | 4/3481 | 03/21/14 | RNAV (GPS) RWY 35, Amdt 1A.
5/29/2014 | IL | Springfield | Abraham Lincoln Capital | 4/3548 | 03/18/14 | RNAV (GPS) RWY 22, Orig-A.
5/29/2014 | IL | Springfield | Abraham Lincoln Capital | 4/3549 | 03/18/14 | ILS OR LOC RWY 22, Amdt 9A.
5/29/2014 | IL | Springfield | Abraham Lincoln Capital | 4/3550 | 03/18/14 | VOR/DME RWY 22, Orig-B.
5/29/2014 | WA | Bellingham | Bellingham Intl | 4/3750 | 03/18/14 | RNAV (GPS) Y RWY 34, Amdt 1A.
5/29/2014 | WA | Bellingham | Bellingham Intl | 4/3751 | 03/18/14 | ILS RWY 16 (SA CAT I), Amdt 7A.
5/29/2014 | WA | Bellingham | Bellingham Intl | 4/3752 | 03/18/14 | RNAV (GPS) Y RWY 16, Amdt 2A.
5/29/2014 | WA | Bellingham | Bellingham Intl | 4/3753 | 03/18/14 | ILS OR LOC RWY 16, Amdt 7A.
5/29/2014 | WA | Bellingham | Bellingham Intl | 4/3754 | 03/18/14 | RNAV (RNP) Z RWY 34, Orig.
5/29/2014 | WA | Bellingham | Bellingham Intl | 4/3755 | 03/18/14 | RNAV (RNP) Z RWY 16, Orig.
5/29/2014 | IA | Greenfield | Greenfield Muni | 4/4095 | 03/20/14 | RNAV (GPS) RWY 25, Orig.
5/29/2014 | CQ | Rota Island | Benjamin Taisacan Mangiona Intl | 4/4153 | 03/18/14 | RNAV (GPS) RWY 9, Amdt 1.
5/29/2014 | IA | Carroll | Arthur N Neu | 4/4273 | 03/18/14 | RNAV (GPS) RWY 13, Amdt 1A.
5/29/2014 | IA | Carroll | Arthur N Neu | 4/4274 | 03/18/14 | RNAV (GPS) RWY 31, Amdt 1A.
5/29/2014 | WV | Williamson | Appalachian Rgnl | 4/4325 | 03/25/14 | RNAV (GPS) RWY 8, Orig-A.
5/29/2014 | WV | Williamson | Appalachian Rgnl | 4/4326 | 03/25/14 | RNAV (GPS) RWY 26, Orig-A.
5/29/2014 | CO | Longmont | Vance Brand | 4/4384 | 03/21/14 | VOR/DME A, Amdt 2.
5/29/2014 | WY | Guernsey | Camp Guernsey | 4/4413 | 03/18/14 | NDB RWY 32, Amdt 1A.
5/29/2014 | WY | Guernsey | Camp Guernsey | 4/4416 | 03/18/14 | RNAV (GPS) RWY 32, Orig-A.
5/29/2014 | AR | Little Rock | Bill And Hillary Clinton National/Adams Field | 4/4551 | 03/18/14 | RNAV (GPS) RWY 4L, Amdt 1B.
5/29/2014 | AR | Little Rock | Bill And Hillary Clinton National/Adams Field | 4/4552 | 03/18/14 | ILS OR LOC RWY 4L, Amdt 25E.
5/29/2014 | AR | Little Rock | Bill And Hillary Clinton National/Adams Field | 4/4553 | 03/18/14 | RNAV (GPS) RWY 36, Orig-A.
5/29/2014 | CO | Denver | Rocky Mountain Metropolitan | 4/4748 | 03/18/14 | VOR/DME RWY 29 L/R, Orig-C.
5/29/2014 | IA | Ankeny | Ankeny Rgnl | 4/4856 | 03/18/14 | ILS OR LOC RWY 36, Amdt 2.
5/29/2014 | IA | Ankeny | Ankeny Rgnl | 4/4857 | 03/18/14 | RNAV (GPS) RWY 36, Amdt 1.
5/29/2014 | IA | Ankeny | Ankeny Rgnl | 4/4858 | 03/18/14 | RNAV (GPS) RWY 18, Amdt 1.
5/29/2014 | IA | Atlantic | Atlantic Muni | 4/4859 | 03/14/14 | RNAV (GPS) RWY 20, Amdt 1.
5/29/2014 | IA | Atlantic | Atlantic Muni | 4/4860 | 03/14/14 | RNAV (GPS) RWY 2, Amdt 1.
5/29/2014 | AR | Melbourne | Melbourne Muni—John E Miller Field | 4/4862 | 03/14/14 | RNAV (GPS) RWY 21, Amdt 1.
5/29/2014 | AR | Monticello | Monticello Muni/Ellis Field | 4/4863 | 03/14/14 | RNAV (GPS) RWY 3, Amdt 1A.
5/29/2014 | FL | West Palm Beach | Palm Beach Intl | 4/5008 | 03/25/14 | ILS OR LOC RWY 10L, Amdt 26A.
5/29/2014 | FL | West Palm Beach | Palm Beach Intl | 4/5012 | 03/25/14 | RNAV (RNP) Z RWY 10L, Amdt 1.
5/29/2014 | FL | West Palm Beach | Palm Beach Intl | 4/5022 | 03/25/14 | RNAV (GPS) Y RWY 10L, Amdt 3.
5/29/2014 | FL | Titusville | Arthur Dunn Air Park | 4/5025 | 03/25/14 | RNAV (GPS) RWY 33, Orig.
5/29/2014 | FL | Titusville | Arthur Dunn Air Park | 4/5026 | 03/25/14 | RNAV (GPS) RWY 15, Orig.
5/29/2014 | NC | Whiteville | Columbus County Muni | 4/5027 | 03/25/14 | NDB RWY 6, Amdt 5A.
5/29/2014 | NC | Whiteville | Columbus County Muni | 4/5029 | 03/25/14 | RNAV (GPS) RWY 6, Orig-A.
5/29/2014 | CA | Oxnard | Oxnard | 4/5091 | 03/18/14 | VOR RWY 25, Amdt 10.
5/29/2014 | CA | Oxnard | Oxnard | 4/5092 | 03/18/14 | ILS OR LOC RWY 25, Amdt 13.
5/29/2014 | CA | Oxnard | Oxnard | 4/5093 | 03/18/14 | RNAV (GPS) RWY 25, Amdt 1.
5/29/2014 | CA | Tracy | Tracy Muni | 4/5440 | 03/25/14 | RNAV (GPS) RWY 30, Orig.
5/29/2014 | CA | Tracy | Tracy Muni | 4/5441 | 03/25/14 | RNAV (GPS) RWY 12, Amdt 1.
5/29/2014 | AZ | Nogales | Nogales Intl | 4/5686 | 03/21/14 | NDB OR GPS C, Amdt 2B.
5/29/2014 | IA | Guthrie Center | Guthrie County Rgnl | 4/5836 | 03/18/14 | RNAV (GPS) RWY 36, Amdt 1.
5/29/2014 | IA | Hampton | Hampton Muni | 4/5843 | 03/18/14 | RNAV (GPS) RWY 35, Amdt 1.
5/29/2014 | AZ | Nogales | Nogales Intl | 4/6181 | 03/21/14 | VOR OR GPS A, Amdt 3A.
5/29/2014 | AZ | Nogales | Nogales Intl | 4/6182 | 03/21/14 | VOR/DME OR GPS B, Amdt 2A.
5/29/2014 | IA | Boone | Boone Muni | 4/6497 | 03/17/14 | RNAV (GPS) RWY 15, Amdt 1.
5/29/2014 | IA | Le Mars | Le Mars Muni | 4/6548 | 03/18/14 | VOR/DME RWY 36, Amdt 4.
5/29/2014 | IA | Le Mars | Le Mars Muni | 4/6549 | 03/18/14 | RNAV (GPS) RWY 18, Amdt 1.
5/29/2014 | OR | Portland | Portland-Troutdale | 4/6550 | 03/21/14 | NDB OR GPS A, Amdt 8A.
5/29/2014 | IA | Le Mars | Le Mars Muni | 4/6551 | 03/18/14 | RNAV (GPS) RWY 36, Amdt 1.
5/29/2014 | IL | Bloomington/Normal | Central Il Rgnl Arpt At Bloomington-Normal | 4/6555 | 03/18/14 | ILS OR LOC RWY 29, Amdt 10A.
5/29/2014 | IL | Bloomington/Normal | Central Il Rgnl Arpt At Bloomington-Normal | 4/6557 | 03/18/14 | LOC BC RWY 11, Amdt 10.
5/29/2014 | IA | Pocahontas | Pocahontas Muni | 4/6558 | 03/18/14 | RNAV (GPS) RWY 30, Orig-A.
5/29/2014 | AK | Selawik | Selawik | 4/6559 | 03/21/14 | VOR RWY 4, Amdt 1.
5/29/2014 | AK | Selawik | Selawik | 4/6560 | 03/21/14 | VOR RWY 22, Amdt 1.
5/29/2014 | IA | Pocahontas | Pocahontas Muni | 4/6561 | 03/18/14 | VOR/DME RWY 30, Amdt 4.
5/29/2014 | ND | Bismarck | Bismarck Muni | 4/6562 | 03/18/14 | ILS OR LOC RWY 13, Amdt 3.
5/29/2014 | ND | Bismarck | Bismarck Muni | 4/6565 | 03/18/14 | ILS OR LOC RWY 31, Amdt 33A.
5/29/2014 | IA | Mason City | Mason City Muni | 4/6566 | 03/18/14 | RNAV (GPS) RWY 30, Amdt 1.
5/29/2014 | IA | Mason City | Mason City Muni | 4/6567 | 03/18/14 | LOC/DME BC RWY 18, Amdt 7.
5/29/2014 | IA | Mason City | Mason City Muni | 4/6568 | 03/18/14 | RNAV (GPS) RWY 18, Amdt 2.
5/29/2014 | IA | Mason City | Mason City Muni | 4/6569 | 03/18/14 | VOR/DME RWY 18, Amdt 5.
5/29/2014 | MN | Ely | Ely Muni | 4/6570 | 03/18/14 | RNAV (GPS) RWY 12, Amdt 1.
5/29/2014 | IA | Eagle Grove | Eagle Grove Muni | 4/6571 | 03/18/14 | RNAV (GPS) RWY 13, Amdt 1.
5/29/2014 | IA | Eagle Grove | Eagle Grove Muni | 4/6572 | 03/18/14 | RNAV (GPS) RWY 31, Amdt 2.
5/29/2014 | AK | Selawik | Selawik | 4/6573 | 03/21/14 | Takeoff Minimums and Obstacle DP, Amdt 1.
5/29/2014 | IA | Chariton | Chariton Muni | 4/6575 | 03/17/14 | RNAV (GPS) RWY 17, Amdt 1.
5/29/2014 | AR | Fayetteville/Springdale/ | Northwest Arkansas Rgnl | 4/6576 | 03/18/14 | RNAV (GPS) RWY 35, Orig-A.
5/29/2014 | AR | Fayetteville/Springdale/ | Northwest Arkansas Rgnl | 4/6578 | 03/18/14 | ILS OR LOC/DME RWY 35, Orig-A.
5/29/2014 | KS | Washington | Washington County Veteran's Memorial | 4/6588 | 03/18/14 | RNAV (GPS) RWY 17, Orig.
5/29/2014 | IA | Creston | Creston Muni | 4/6589 | 03/18/14 | RNAV (GPS) RWY 16, Amdt 1A.
5/29/2014 | IA | Creston | Creston Muni | 4/6591 | 03/18/14 | RNAV (GPS) RWY 34, Amdt 1.
5/29/2014 | IA | Clinton | Clinton Muni | 4/6631 | 03/18/14 | ILS OR LOC RWY 3, Amdt 5.
5/29/2014 | IA | Clinton | Clinton Muni | 4/6632 | 03/18/14 | RNAV (GPS) RWY 32, Amdt 1.
5/29/2014 | TX | Devine | Devine Muni | 4/6636 | 03/18/14 | NDB RWY 35, Amdt 3.
5/29/2014 | IA | Maquoketa | Maquoketa Muni | 4/6638 | 03/18/14 | RNAV (GPS) RWY 33, Amdt 1.
5/29/2014 | IA | Davenport | Davenport Muni | 4/6669 | 03/18/14 | RNAV (GPS) RWY 33, Amdt 1B.
5/29/2014 | IA | Davenport | Davenport Muni | 4/6670 | 03/18/14 | RNAV (GPS) RWY 15, Amdt 2A.
5/29/2014 | IA | Davenport | Davenport Muni | 4/6671 | 03/18/14 | RNAV (GPS) RWY 3, Amdt 1B.
5/29/2014 | IA | Davenport | Davenport Muni | 4/6672 | 03/18/14 | RNAV (GPS) RWY 21, Amdt 1C.
5/29/2014 | NE | Chadron | Chadron Muni | 4/6682 | 03/18/14 | RNAV (GPS) RWY 2, Amdt 1.
5/29/2014 | NE | Chadron | Chadron Muni | 4/6683 | 03/18/14 | ILS OR LOC RWY 2, Amdt 2A.
5/29/2014 | MO | St Louis | Lambert-St Louis Intl | 4/6684 | 03/18/14 | RNAV (RNP) Z RWY 30L, Orig.
5/29/2014 | MO | St Louis | Lambert-St Louis Intl | 4/6685 | 03/18/14 | ILS OR LOC RWY 12R, Amdt 22.
5/29/2014 | MO | St Louis | Lambert-St Louis Intl | 4/6686 | 03/18/14 | RNAV (RNP) Z RWY 12R, Orig.
5/29/2014 | IL | Centralia | Centralia Muni | 4/6770 | 03/18/14 | RNAV (GPS) RWY 36, Amdt 1.
5/29/2014 | IL | Belleville | Scott AFB/MidAmerica | 4/6780 | 03/20/14 | RNAV (GPS) RWY 14R, Orig-C.
5/29/2014 | IA | Greenfield | Greenfield Muni | 4/6785 | 03/20/14 | RNAV (GPS) RWY 7, Orig.
5/29/2014 | IL | Belleville | Scott AFB/MidAmerica | 4/6789 | 03/20/14 | TACAN RWY 14R, Amdt 1.
5/29/2014 | IL | Belleville | Scott AFB/MidAmerica | 4/6880 | 03/20/14 | ILS OR LOC RWY 14R, Orig-D.
5/29/2014 | TX | Brownsville | Brownsville/South Padre Island Intl | 4/7056 | 03/20/14 | RNAV (GPS) RWY 17, Orig.
5/29/2014 | IL | Chicago/Prospect Heights/Wheeling | Chicago Executive | 4/7057 | 03/20/14 | RNAV (GPS) RWY 16, Amdt 1A.
5/29/2014 | IL | Chicago/Aurora | Aurora Muni | 4/7058 | 03/20/14 | RNAV (GPS) RWY 15, Orig-A.
5/29/2014 | IL | Chicago/Rockford | Chicago/Rockford Intl | 4/7059 | 03/20/14 | RNAV (GPS) RWY 7, Amdt 1A.
5/29/2014 | GA | Atlanta | Atlanta South Rgnl | 4/8685 | 03/25/14 | RNAV (GPS) RWY 6, Amdt 1A.
5/29/2014 | GA | Atlanta | Atlanta South Rgnl | 4/8686 | 03/25/14 | RNAV (GPS) RWY 24, Amdt 1.
5/29/2014 | NJ | Atlantic City | Atlantic City Intl | 4/8687 | 03/25/14 | RNAV (GPS) RWY 22 Amdt 4.
5/29/2014 | NJ | Atlantic City | Atlantic City Intl | 4/8688 | 03/25/14 | VOR/DME RWY 22, Amdt 6A.
5/29/2014 | NJ | Atlantic City | Atlantic City Intl | 4/8689 | 03/25/14 | RNAV (GPS) RWY 4, Amdt 2A.
5/29/2014 | ME | Auburn/Lewiston | Auburn/Lewiston Muni | 4/8799 | 03/25/14 | ILS OR LOC RWY 4, Amdt 10C.
5/29/2014 | AL | Auburn | Auburn University Rgnl | 4/8800 | 03/25/14 | RNAV (GPS) RWY 36, Amdt 2.
5/29/2014 | AL | Auburn | Auburn University Rgnl | 4/8801 | 03/25/14 | ILS OR LOC RWY 36, Amdt 2.
5/29/2014 | AL | Auburn | Auburn University Rgnl | 4/8803 | 03/25/14 | RNAV (GPS) RWY 29, Amdt 1.
5/29/2014 | AL | Auburn | Auburn University Rgnl | 4/8805 | 03/25/14 | VOR RWY 29 Amdt, 11.
5/29/2014 | AL | Atmore | Atmore Muni | 4/8806 | 03/25/14 | RNAV (GPS) RWY 18, Amdt 1.
5/29/2014 | AL | Atmore | Atmore Muni | 4/8810 | 03/25/14 | RNAV (GPS) RWY 36, Amdt 1.
5/29/2014 | PA | Williamsport | Williamsport Rgnl | 4/8851 | 03/25/14 | RNAV (GPS) RWY 30, Orig.
5/29/2014 | PA | Williamsport | Williamsport Rgnl | 4/8853 | 03/25/14 | RNAV (GPS) RWY 9, Orig.
5/29/2014 | PA | Williamsport | Williamsport Rgnl | 4/8863 | 03/25/14 | RNAV (GPS) RWY 12, Orig.
5/29/2014 | AL | Auburn | Auburn University Rgnl | 4/9191 | 03/25/14 | RNAV (GPS) RWY 11, Amdt 1.
5/29/2014 | AL | Auburn | Auburn University Rgnl | 4/9198 | 03/25/14 | RNAV (GPS) RWY 18, Amdt 1.

[FR Doc. 2014-09632 Filed 4-29-14; 8:45 am]

BILLING CODE 4910-13-P